DEPARTMENT OF ENERGY

Federal Energy Regulatory Commission

Notice of Commission Staff Attendance at Midwest ISO Meetings

January 12, 2010.

The Federal Energy Regulatory Commission hereby gives notice that members of the Commission and Commission staff may attend the following Midwest ISO-related meetings:

• Advisory Committee (10 a.m.-3 p.m., ET)

○ January 20

○ February 17

○ March 17

○ May 19

○ June 16

○ July 14

○ August 18 (St. Paul Hotel, 350 Market St., St. Paul, MN)

○ September 15

○ October 20

○ November 17

○ December 1

• Board of Directors (8:30 a.m.-10 a.m., ET)

○ February 18

○ April 15 (Crowne Plaza Hotel, 123 West Louisiana St., Indianapolis, IN)

○ June 17

○ August 19 (St. Paul Hotel, 350 Market St., St. Paul, MN)

○ October 21

○ December 2

• Board of Directors Markets Committee (8 a.m.-10 a.m., ET)

○ February 17

○ March 17

○ April 14 (Crowne Plaza Hotel, 123 West Louisiana St., Indianapolis, IN)

○ May 19

○ June 16

○ July 14

○ August 18 (St. Paul Hotel, 350 Market St., St. Paul, MN)

○ September 15

○ October 20

○ November 17

○ December 1

• Midwest ISO Informational Forum (3 p.m.-5 p.m., ET)

○ January 19

○ February 16

○ March 16

○ May 18

○ June 15

○ July 13

○ August 17 (St. Paul Hotel, 350 Market St., St. Paul, MN)

○ September 14

○ October 19

○ November 16

○ December 14

• Midwest ISO Market Subcommittee (9 a.m.-5 p.m., ET)

○ January 5

○ February 2

○ March 2

○ March 30

○ May 4

○ June 1

○ June 29

○ August 3

○ August 31

○ October 5

○ November 2

○ December 7

Except as noted, all of the meetings above will be held at: Midwest ISO Headquarters, 720 City Center Drive, Carmel, IN 46032.

• Fifth Annual Midwest ISO Stakeholders' Meeting (10 a.m.-5 p.m., ET)

○ April 14 (Crowne Plaza Hotel, 123 West Louisiana Street, Indianapolis, IN 46225)

Further information may be found at http://www.midwestiso.org.

The above-referenced meetings are open to the public.

The discussions at each of the meetings described above may address matters at issue in the following proceedings:

Docket No. AD07-12, Reliability Standard Compliance and Enforcement in Regions with Independent System Operators and Regional Transmission Organizations

Docket Nos. EC06-4 and ER06-20, Louisville Gas and Electric Company, et al.

Docket No. ER02-488, Midwest Independent Transmission System Operator, Inc.

Docket Nos. ER02-2595, et al., Midwest Independent Transmission System Operator, Inc.

Docket No. ER04-375, Midwest Independent Transmission System Operator, Inc., et al.

Docket Nos. ER04-458, et al., Midwest Independent Transmission System Operator, Inc.

Docket Nos. ER04-691, EL04-104 and ER04-106, et al., Midwest Independent Transmission System Operator, Inc., et al.

Docket No. ER05-6, et al., Midwest Independent Transmission System Operator, Inc., et al.

Docket No. ER05-636, Midwest Independent Transmission System Operator, Inc.

Docket No. ER05-752, Midwest Independent Transmission System Operator, Inc. and PJM Interconnection, L.L.C.

Docket No. ER05-1047, Midwest Independent Transmission System Operator, Inc.

Docket No. ER05-1048, Midwest Independent Transmission System Operator, Inc.

Docket No. ER05-1083, et al., Midwest Independent Transmission System Operator, Inc., et al.

Docket No. ER05-1085, et al., Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

Docket Nos. ER06-18, et al., Midwest Independent Transmission System Operator, Inc.

Docket No. ER06-22, Midwest Independent Transmission System Operator, Inc.

Docket No. ER06-27, Midwest Independent Transmission System Operator, Inc., et al.

Docket No. ER06-56, Midwest Independent Transmission System Operator, Inc.

Docket No. ER06-192, Midwest Independent Transmission System Operator, Inc.

Docket No. ER06-356, Midwest Independent Transmission System Operator, Inc.

Docket No. ER06-360, et al., Midwest Independent Transmission System Operator, Inc., et al.

Docket No. ER06-532, Midwest Independent Transmission System Operator, Inc.

Docket No. ER06-731, Independent Market Monitor for the Midwest Independent Transmission System Operator, Inc.

Docket No. ER06-866, Midwest Independent Transmission System Operator, Inc.

Docket No. ER06-881, Midwest Independent Transmission System Operator, Inc.

Docket No. ER06-1420, Midwest Independent Transmission System Operator, Inc.

Docket No. ER06-1536, Midwest Independent Transmission System Operator, Inc.

Docket No. ER06-1552, Midwest Independent Transmission System Operator, Inc.

Docket No. EL06-31, Midwest Independent Transmission System Operator, Inc., et al.

Docket No. EL06-49, Midwest Independent Transmission System Operator, Inc., et al.

Docket No. EL06-80, Midwest Independent Transmission System Operator, Inc.

Docket No. ER07-53, Midwest Independent Transmission System Operator, Inc.

Docket No. ER07-478, Midwest Independent Transmission System Operator, Inc.

Docket No. ER07-532, Midwest Independent Transmission System Operator, Inc.

Docket No. ER07-580, Midwest Independent Transmission System Operator, Inc.

Docket No. ER07-815, Midwest Independent Transmission System Operator, Inc.

Docket No. ER07-940, Midwest Independent Transmission System Operator, Inc., et al.

Docket No. ER07-1141, International Transmission Co., et al.

Docket No. ER07-1144, American Transmission Co. LLC, et al.

Docket No. ER07-1182, Midwest Independent Transmission System Operator, Inc.

Docket Nos. ER07-1233 and ER07-1261, Midwest Independent Transmission System Operator, Inc.

Docket No. ER07-1372, Midwest Independent Transmission System Operator, Inc.

Docket No. ER07-1375, Midwest Independent Transmission System Operator, Inc.

Docket No. ER07-1388, Midwest Independent Transmission System Operator, Inc.

Docket No. ER07-1417, Midwest Independent Transmission System Operator, Inc., et al.

Docket No. EL07-44, Dakota Wind Harvest, LLC v. Midwest Independent Transmission System Operator, Inc., et al.

Docket No. EL07-79, Midwest Independent Transmission System Operator, Inc.

Docket Nos. EL07-86, EL07-88, EL07-92, Ameren Services Co., et al. v. Midwest Independent Transmission System Operator, Inc., et al.

Docket No. EL07-100, E.ON U.S. LLC v. Midwest Independent Transmission System Operator, Inc.

Docket No. ER08-15, Midwest ISO Transmission Owners

Docket No. ER08-55, Midwest Independent Transmission System Operator, Inc., et al.

Docket No. ER08-109, Midwest Independent Transmission System Operator, Inc.

Docket Nos. ER08-185 and ER08-186, Ameren Energy Marketing Company, et al.

Docket No. ER08-207, Midwest Independent Transmission System Operator, Inc.

Docket No. ER08-209, Midwest Independent Transmission System Operator, Inc.

Docket No. ER08-269, Midwest Independent Transmission System Operator, Inc.

Docket No. ER08-296, Midwest Independent Transmission System Operator, Inc.

Docket No. ER08-320, Midwest Independent Transmission System Operator, Inc.

Docket No. ER08-370, Midwest Independent Transmission System Operator, Inc.

Docket No. ER08-394, Midwest Independent Transmission System Operator, Inc.

Docket No. ER08-404, Midwest Independent Transmission System Operator, Inc.

Docket No. ER08-637, Midwest Independent Transmission System Operator, Inc.

Docket No. ER08-925, Midwest Independent Transmission System Operator, Inc.

Docket No. ER08-1043, Midwest Independent Transmission System Operator, Inc.

Docket No. ER08-1074, Midwest Independent Transmission System Operator, Inc.

Docket No. ER08-1169, Midwest Independent Transmission System Operator, Inc.

Docket No. ER08-1244, Midwest Independent Transmission System Operator, Inc.

Docket No. ER08-1252, Midwest Independent Transmission System Operator, Inc.

Docket No. ER08-1285, Midwest Independent Transmission System Operator, Inc.

Docket No. ER08-1309, Midwest Independent Transmission System Operator, Inc.

Docket No. ER08-1370, Midwest Independent Transmission System Operator, Inc.

Docket No. ER08-1399, Midwest Independent Transmission System Operator, Inc.

Docket No. ER08-1400, Midwest Independent Transmission System Operator, Inc.

Docket No. ER08-1401, Midwest Independent Transmission System Operator, Inc.

Docket No. ER08-1404, Midwest Independent Transmission System Operator, Inc.

Docket No. ER08-1435, Midwest Independent Transmission System Operator, Inc.

Docket No. ER08-1485, Midwest Independent Transmission System Operator, Inc.

Docket No. ER08-1486, Midwest Independent Transmission System Operator, Inc.

Docket No. ER08-1505, Midwest Independent Transmission System Operator, Inc.

Docket No. ER09-59, American Transmission Company, Inc.

Docket No. ER09-66, Midwest Independent Transmission System Operator, Inc.

Docket No. ER09-83, Midwest Independent Transmission System Operator, Inc.

Docket No. ER09-91, Midwest Independent Transmission System Operator, Inc.

Docket No. ER09-108, Midwest Independent Transmission System Operator, Inc.

Docket No. ER09-117, Midwest Independent Transmission System Operator, Inc.

Docket No. ER09-123, Midwest Independent Transmission System Operator, Inc.

Docket No. ER09-160, Midwest Independent Transmission System Operator, Inc.

Docket No. ER09-180, Midwest Independent Transmission System Operator, Inc.

Docket No. ER09-245, Midwest Independent Transmission System Operator, Inc.

Docket No. ER09-266, Midwest Independent Transmission System Operator, Inc.

Docket No. ER09-267, Midwest Independent Transmission System Operator, Inc.

Docket No. ER09-403, Midwest Independent Transmission System Operator, Inc.

Docket No. ER09-499, Midwest Independent Transmission System Operator, Inc.

Docket No. ER09-506, Midwest Independent Transmission System Operator, Inc.

Docket No. ER09-512, Midwest Independent Transmission System Operator, Inc.

Docket No. ER09-573, Midwest Independent Transmission System Operator, Inc.

Docket No. ER09-592, Midwest Independent Transmission System Operator, Inc.

Docket No. ER09-654, Midwest Independent Transmission System Operator, Inc.

Docket No. ER09-660, Midwest Independent Transmission System Operator, Inc.

Docket No. ER09-769, Midwest Independent Transmission System Operator, Inc.

Docket No. ER09-774, Midwest Independent Transmission System Operator, Inc.

Docket No. ER09-783, Midwest Independent Transmission System Operator, Inc.

Docket No. ER09-785, Midwest Independent Transmission System Operator, Inc.

Docket No. ER09-788, Midwest Independent Transmission System Operator, Inc.

Docket No. ER09-807, Midwest Independent Transmission System Operator, Inc.

Docket No. ER09-827, Midwest Independent Transmission System Operator, Inc.

Docket No. ER09-839, Midwest Independent Transmission System Operator, Inc.

Docket No. ER09-861, Midwest Independent Transmission System Operator, Inc.

Docket No. ER09-991, Midwest Independent Transmission System Operator, Inc.

Docket No. ER09-994, Midwest Independent Transmission System Operator, Inc.

Docket No. ER09-998, Midwest Independent Transmission System Operator, Inc.

Docket No. ER09-999, Midwest Independent Transmission System Operator, Inc.

Docket No. ER09-1049, Midwest Independent Transmission System Operator, Inc.

Docket No. ER09-1074, Midwest Independent Transmission System Operator, Inc.

Docket No. ER09-1126, Midwest Independent Transmission System Operator, Inc.

Docket No. ER09-1369, Midwest Independent Transmission System Operator, Inc.

Docket No. ER09-1396, Midwest Independent Transmission System Operator, Inc.

Docket No. ER09-1422, Midwest Independent Transmission System Operator, Inc.

Docket No. ER09-1431, Midwest Independent Transmission System Operator, Inc.

Docket No. ER09-1432, Midwest Independent Transmission System Operator, Inc.

Docket No. ER09-1435, Midwest Independent Transmission System Operator, Inc.

Docket No. ER09-1526, Midwest Independent Transmission System Operator, Inc.

Docket No. ER09-1543, Midwest Independent Transmission System Operator, Inc.

Docket No. ER09-1575, Midwest Independent Transmission System Operator, Inc.

Docket No. ER09-1581, Midwest Independent Transmission System Operator, Inc.

Docket No. ER09-1619, Midwest Independent Transmission System Operator, Inc.

Docket No. ER09-1719, Midwest Independent Transmission System Operator, Inc.

Docket No. ER09-1727, Midwest Independent Transmission System Operator, Inc.

Docket No. ER09-1769, Midwest Independent Transmission System Operator, Inc.

Docket No. ER09-1779, Midwest Independent Transmission System Operator, Inc.

Docket No. ER10-8, Midwest Independent Transmission System Operator, Inc.

Docket No. ER10-27, Midwest Independent Transmission System Operator, Inc.

Docket No. ER10-277, Midwest Independent Transmission System Operator, Inc.

Docket No. ER10-279, Midwest Independent Transmission System Operator, Inc.

Docket No. ER10-224, Midwest Independent Transmission System Operator, Inc.

Docket No. ER10-128, Midwest Independent Transmission System Operator, Inc.

Docket No. ER10-191, E.ON U.S. LLC

Docket No. OA07-57, Midwest Independent Transmission System Operator, Inc.

Docket No. OA08-4, Midwest ISO Transmission Owners, et al.

Docket No. OA08-14, Midwest Independent Transmission System Operator, Inc.

Docket No. OA08-42, Midwest Independent Transmission System Operator, Inc.

Docket No. OA08-53, Midwest Independent Transmission System Operator, Inc.

Docket No. OA08-106, Midwest Independent Transmission System Operator, Inc.

Docket No. OA09-7, Midwest Independent Transmission System Operator, Inc.

Docket Nos. RR07-2, et al., Delegation Agreement Between the North American Electric Reliability Corporation and Midwest Reliability Organization, et al.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Kimberly D. Bose,
Secretary.

[FR Doc. 2010-910 Filed 1-19-10; 8:45 a.m.]

BILLING CODE 6717-01-P